DEPARTMENT OF HOMELAND SECURITY

Coast Guard

33 CFR Part 117

[CGD08-05-043]

Drawbridge Operation Regulations; Inner Harbor Navigation Canal—New Orleans, LA

AGENCY: Coast Guard, DHS.

ACTION: Notice of temporary deviation from regulations.

SUMMARY: The Commander, Eighth Coast Guard District, has issued a temporary deviation from the regulation governing the operation of the Ted Hickey Bascule Span Bridge across the Inner Harbor Navigation Canal, mile 4.6, at New Orleans, Orleans Parish, Louisiana. This deviation allows the bridge to remain closed to navigation for thirty-six hours. This temporary deviation is necessary for the replacement of the operating controls of the bridge.

DATES: This deviation is effective from 9 a.m. on Monday, August 1, 2005 through 9 p.m. on Tuesday, August 2, 2005.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: Phil Johnson, Bridge Administration Branch, telephone (504) 589-2965.

SUPPLEMENTARY INFORMATION: The Board of Commissioners of the New Orleans Levee Board has requested a temporary deviation in order to replace the operating controls and to calibrate the new controls of the Ted Hickey Bascule Span Bridge on Leon C. Simon Boulevard across the Inner Harbor Navigation Canal, mile 4.6, at New Orleans, Orleans Parish, Louisiana. This temporary deviation will allow the bridge to remain in the closed-to-navigation position from 9 a.m. on Monday, August 1, 2005 through 9 p.m. on Tuesday, August 2, 2005.

The bridge has a vertical clearance of 45 feet above Mean Sea Level in the closed-to-navigation position. Navigation at the site of the bridge consists mainly of small ships, tows with barges, and recreational vessels, including sailing vessels. Due to prior experience, as well as coordination with waterway users, it has been determined that this thirty-six hour closure will not have a significant effect on these vessels. Normally, the draw of the bridge opens on signal, except that, from 7 a.m. to 8:30 a.m. and 5 p.m. to 6:30 p.m., Monday through Friday, the draw need not be opened for navigation, as provided for in 33 CFR 117.458(c). The bridge may not be able to open for emergencies during the closure period. Alternate routes are available via Chef Menteur Pass or Rigolets Pass and the Gulf Intracoastal Waterway.

In accordance with 33 CFR 117.35(c), this work will be performed with all due speed in order to return the bridge to normal operation as soon as possible. This deviation from the operating regulations is authorized under 33 CFR 117.35.

Dated: July 8, 2005.
Marcus Redford,
Bridge Administrator.

[FR Doc. 05-13954 Filed 7-14-05; 8:45 am]

BILLING CODE 4910-15-P